DEPARTMENT OF ENERGY

Federal Energy Regulatory Commission

[Project No. 1417-198]

Central Nebraska Public Power and Irrigation District; Notice of Availability of Environmental Assessment

July 8, 2008.

In accordance with the National Environmental Policy Act of 1969 and the Federal Energy Regulatory Commission's regulations, 18 CFR Part 380 (Order No. 486, 52 FR 47879) the Office of Energy Projects has prepared an environmental assessment (EA) for an application filed by Central Nebraska Public Power and Irrigation District (licensee) on February 12, 2007, requesting Commission approval to amend the Land and Shoreline Management Plan (LSMP) for the Kingsley Dam Hydroelectric Project (FERC No. 1417). The licensee proposes to reclassify certain shoreline lands at Plum Creek reservoir (reservoir) from open-space to residential in order to allow adjacent landowners to apply for shoreline access facilities. The reservoir is located within the Platte River Basin in Dawson and Gosper Counties, near the towns of Lexington and Elwood, Nebraska. The project does not occupy any federal lands. The EA evaluates the environmental impacts that would result from approving the licensee's proposal. The EA finds that approval of the application would not constitute a major federal action significantly affecting the quality of the human environment.

A copy of the EA is on file with the Commission and is available for public inspection. The EA may also be viewed on the Commission's Web site at http://www.ferc.gov using the “eLibrary” link. Enter the docket number (P-1417) excluding the last three digits in the docket number field to access the document. For assistance, contact FERC Online Support at FERCOnlineSupport@ferc.gov or toll-free at 1-866-208-3676, or for TTY, (202) 502-8659.

You also may register online at http://www.ferc.gov/docs-filing/esubscription.asp to be notified via e-mail of new filings and issuances related to this or other pending projects. For assistance, contact FERC Online Support.

For further information, please contact Christopher Yeakel by telephone at (202) 502-8132 or by e-mail at Christopher.yeakel@ferc.gov.

Kimberly D. Bose,
Secretary.

[FR Doc. E8-16048 Filed 7-14-08; 8:45 am]

BILLING CODE 6717-01-P